DEPARTMENT OF COMMERCE

International Trade Administration

[A-421-815, A-455-806, A-469-825]

Certain Preserved Mushrooms From the Netherlands, Poland, and Spain: Postponement of Preliminary Determinations in the Less-Than-Fair-Value Investigations

AGENCY: Enforcement and Compliance, International Trade Administration, Department of Commerce.

DATES: Applicable August 16, 2022.

FOR FURTHER INFORMATION CONTACT: Benjamin A. Smith (the Netherlands), Eliza Siordia (Poland), or Katherine Johnson (Spain), AD/CVD Operations, Offices III and V, Enforcement and Compliance, International Trade Administration, U.S. Department of Commerce, 1401 Constitution Avenue NW, Washington, DC 20230; telephone: (202) 482-2181, (202) 482-3878, or (202) 482-2437, respectively.

SUPPLEMENTARY INFORMATION:

Background

On April 20, 2022, the U.S. Department of Commerce (Commerce) initiated the less-than-fair-value (LTFV) investigations of imports of certain preserved mushrooms from the Netherlands, Poland, and Spain.¹ Currently, the preliminary determinations are due no later than September 7, 2022.

¹ See Certain Preserved Mushrooms from France, the Netherlands, Poland, and Spain: Initiation of Less-Than-Fair-Value Investigations, 87 FR 24941 (April 27, 2022).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 8, 2022, Giorgio Foods, Inc. (the petitioner) submitted a timely request that Commerce postpone the preliminary determinations in the LTFV investigations for the Netherlands, Poland, and Spain.² The petitioner stated that it requests postponement due to concerns that Commerce will need more time to issue supplemental questionnaires to address deficiencies in the respondents' initial questionnaire responses.³

² See Petitioner's Letter, “Less-Than-Fair-Value Investigations of Certain Preserved Mushrooms from Netherlands, Poland, and Spain—Petitioner's Request for Postponement of Preliminary Antidumping Determinations,” dated August 8, 2022.

³ Id. at 2.

For the reasons stated above, and because there are no compelling reasons to deny the request, Commerce, in accordance with section 733(c)(1)(A) of the Act and 19 CFR 351.205(e), is postponing the deadline for the preliminary determinations for the Netherlands, Poland, and Spain by 50 days (i.e., 190 days after the date on which these investigations were initiated). As a result, Commerce will issue its preliminary determinations no later than October 27, 2022. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: August 10, 2022.
Lisa W. Wang,
Assistant Secretary for Enforcement and Compliance.

[FR Doc. 2022-17584 Filed 8-15-22; 8:45 am]

BILLING CODE 3510-DS-P